FEDERAL MARITIME COMMISSION

Notice of Agreements Filed

The Commission hereby gives notice of the filing of the following agreement under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 201357.

Agreement Name: Sallaum Lines/Liberty Global Logistics LLC Space Charter Agreement.

Parties: Sallaum Lines Switzerland SA and Liberty Global Logistics LLC.

Filing Party: Wayne Rohde; Cozen O'Connor.

Synopsis: The agreement authorizes the parties to charter space to/from one another on an “as needed/as available” basis in the trade between the U.S. Atlantic and Gulf Coasts on the one hand and ports in Ghana, Togo, Benin, Nigeria, Jordan, Saudi Arabia, the United Arab Emirates, Qatar, Kuwait, and Pakistan on the other hand.

Proposed Effective Date: 2/22/2021.

Location: https://www2.fmc.gov/FMC.Agreements.Web/Public/AgreementHistory/39512.

Dated: February 26, 2021.
Rachel E. Dickon,
Secretary.

[FR Doc. 2021-04379 Filed 3-2-21; 8:45 am]

BILLING CODE 6730-02-P